DEPARTMENT OF AGRICULTURE

Forest Service

Siskiyou County Resource Advisory Committee (RAC)

AGENCY: Forest Service, USDA.

ACTION: Notice of meeting.

SUMMARY: The Siskiyou County Resource Advisory Committee (RAC) will meet on November 26, 2001, in Yreka, California. The purpose of the meeting is organizational and will serve as an orientation to RAC committee members regarding the Secure Rural School and Community Self-Determination Act of 2000.

DATES: The meeting will be held November 26, 2001 from 1 p.m. to 8 p.m.

ADDRESSES: The meeting will be held at the Miners Inn and Convention Center, 122 E. Miner Street, Yreka, California.

FOR FURTHER INFORMATION CONTACT: Amy Gowan, Meeting Coordinator, USDA, Klamath National Forest, 1312 Fairlane Road, Yreka, California, 96097, (530) 841-4485; EMAIL agowan@fs.fed.us.

SUPPLEMENTARY INFORMATION: Agenda items to be covered include: (1) Federal Advisory Committee Act (FACA) overview; (2) Roles and Responsibilities for Advisory Committees; (3) Rules and Operational Guides and Bylaws; (4) Project Process; (5) Election of RAC Chairperson; (6) Public Comment. The meeting is open to the public. Public input opportunity will be provided and individuals will have the opportunity to address the Committee at that time.

Dated: October 30, 2001.
Ray Haupt,
Acting Deputy Forest Supervisor.

[FR Doc. 01-27891 Filed 11-6-01; 8:45 am]

BILLING CODE 3410-11-M